COUNCIL ON ENVIRONMENTAL QUALITY

National Environmental Policy Act (NEPA) Draft Guidance, “Consideration of the Effects of Climate Change and Greenhouse Gas Emissions.”

AGENCY: Council On Environmental Quality.

ACTION: Notice of Availability, Draft Guidance, “Consideration of the Effects of Climate Change and Greenhouse Gas Emissions.”

SUMMARY: On February 18, 2010, the Council on Environmental Quality (CEQ) announced four steps to modernize, reinvigorate, and ease the use and increase the transparency of implementation of the National Environmental Policy Act (NEPA). Enacted in 1970, NEPA is a fundamental tool used to harmonize our economic, environmental, and social aspirations and is a cornerstone of our Nation's efforts to protect the environment. NEPA recognizes that many Federal activities affect the environment and mandates that Federal agencies consider the environmental impacts of their proposed actions before acting. Additionally, NEPA emphasizes public involvement in government actions affecting the environment by requiring that the benefits and the risks associated with proposed actions be assessed and publicly disclosed.

CEQ, which is charged with implementing NEPA, recognizes that it is a visionary and versatile law that can be used effectively to address new environmental challenges facing our nation and also to engage the public widely and effectively. Furthermore, CEQ wants to develop more effective and accessible tools for citizen involvement in government decision-making. These actions are designed to provide carefully-tailored new assessment and reporting requirements, facilitate agency compliance with NEPA, and enhance the quality of public involvement in governmental decisions relating to the environment.

DATES: Comments should be submitted on or before May 24, 2010.

ADDRESSES: The NEPA Draft Guidance documents are available at http://www.nepa.gov. Comments on the NEPA Draft Guidance “Consideration of the Effects of Climate Change and Greenhouse Gas Emissions” should be submitted electronically to GCC.guidance@ceq.eop.gov, or in writing to The Council on Environmental Quality, Attn: Ted Boling, 722 Jackson Place, NW., Washington, DC 20503.

FOR FURTHER INFORMATION CONTACT: Ted Boling, Senior Counsel, at (202) 395-5750.

SUPPLEMENTARY INFORMATION: CEQ is issuing draft guidance for public comment on when and how Federal agencies must consider the impacts of proposed Federal actions on global climate change, as well as the expected environmental effects from climate change that may be relevant to the design of the proposed Federal action. CEQ has been asked to provide guidance on this subject informally by Federal agencies and formally by a petition under the Administrative Procedure Act. The draft guidance explains how Federal agencies should analyze the environmental impacts of greenhouse gas emissions and climate change when they describe the environmental impacts of a proposed action under NEPA by (1) providing practical tools for agency reporting, including a presumptive threshold of 25,000 metric tons of carbon dioxide equivalent emissions from the proposed action to trigger consideration of a quantitative analysis, and (2) suggestions to agencies on how to assess the effects of climate change on the proposed action, and, in turn, on the design of agency actions. CEQ will seek public comment on this guidance for 90 days. Draft guidance documents are now available at the Council on Environmental Quality Web site at http://www.nepa.gov.

Public comments are requested on or before May 24, 2010.

February 18, 2010.
Nancy Sutley,
Chair, Council on Environmental Quality.

[FR Doc. 2010-3532 Filed 2-22-10; 8:45 am]

BILLING CODE 3125-W0-P